DEPARTMENT OF TRANSPORTATION

Federal Aviation Administration

Notice of Intent To Rule on Application. 01-07-C-00-CRW To Impose and Use and Impose the Revenue From a Passenger Facility Charge (PFC) at Yeager Airport, Charleston, West Virginia

AGENCY: Federal Aviation Administration (FAA), DOT.

ACTION: Notice of intent to rule on application.

SUMMARY: The FAA proposes to rule and invites public comment on the application to impose and to impose and use the revenue from a PFC at the Yeager Airport under the provisions of the Aviation Safety and Capacity Expansion Act of 1990 (Title IX of the Omnibus Budget Reconciliation Act of 1990) (Pub. L. 101-508) and Part 158 of the Federal Aviation Regulations (14 CFR Part 158).

DATES: Comments must be received on or before April 27, 2001.

ADDRESSES: Comments on this application may be mailed or delivered in triplicate to the FAA at the following address:

FAA Eastern Region, AEA-610, 1 Aviation Plaza, Jamaica, New York 11434-4809.

In addition, one copy of any comments submitted to the FAA must be mailed or delivered to Mr. Tim Murnahan, Assistant Director of the Central West Virginia Regional Airport Authority at the following address: 100 Airport Road, Suite 175, Charleston, WV 25311.

Air carriers and foreign air carriers may submit copies of written comments previously provided to the Central West Virginia Regional Airport Authority under § 158.23 of Part 158.

FOR FURTHER INFORMATION CONTACT: Kenneth Kroll, AIP/PFC Team Leader, Programming and Planning Branch, FAA Eastern Region Airports Division, 1 Aviation Plaza, Jamaica, New York, 718-553-3357. The application may be reviewed in person at this same location.

SUPPLEMENTARY INFORMATION: The FAA proposes to rule and invites public comment on the application to impose and to impose and use revenue from a PFC at Yeager Airport under the provision of the Aviation Safety and Capacity Expansion Act of 1990 (title IX of the Omnibus Budget Reconciliation Act of 1990) (Pub. L. 101-508) and Part 158 of the Federal Aviation Regulations (14 CFR Part 158).

On March 16, 2002 the FAA determined that the application to impose and to impose and use revenue from a PFC submitted by the Central West Virginia Regional Airport Authority was substantially complete within the requirements of § 158.25 of Part 158. The FAA will approve or disapprove the application, in whole or in part, no later than June 16, 2001.

The following is a brief overview of the application.

PFC Application No.: 01-07-C-00-CRW.

Level of the proposed PFC: $4.50.

Proposed charge effective date: August 1, 2002.

Proposed charge expiration date: October 1, 2002.

Total estimated PFC revenue: $1,306,248.

Brief description of proposed project(s):

• Acquire Equipment—Security Cameras

• Improve main terminal Buildings—Bathrooms (6)

• Security Equipment Paging System

• Improve Main Apron—Apron Expansion 3

• Improve Main Terminal Building—Emergency Generator

• Reconstruct Main Apron

Class or classes of air carriers which the public agency has requested not be required to collect PFCs: Under FAR Part 135, Charter Operators for hire to the general public; Under FAR Part 121, Charter Operators for hire to the general public; Non-signatory and non-scheduled Air carriers which operate from the airport and enplane less than one percent of the annual Enplanements.

Any person may inspect the application in person at the FAA office listed above under FOR FURTHER INFORMATION CONTACT and at the FAA regional airports office located at: 1 Aviation Plaza, Airports Division, AEA-610, Jamaica, New York 11434-4809.

In addition, any person may, upon request, inspect the application, notice and other documents germane to the application in person at the Central West Virginia Regional Airport Authority.

Issued by AEA-610, Airports Division, Jamaica, NY, on March 16, 2001.
Tom Felix,
Manager, Planning and Programming Branch, Eastern Region.

[FR Doc. 01-7661 Filed 3-27-01; 8:45 am]

BILLING CODE 4910-13-M